DEPARTMENT OF JUSTICE

National Institute of Corrections

Solicitation for a Cooperative Agreement: A “Systems Approach” for Workforce Performance—Curriculum Development

AGENCY: National Institute of Corrections, Department of Justice.

ACTION: Solicitation for a cooperative agreement.

SUMMARY: The National Institute of Corrections (NIC) is soliciting proposals from organizations, groups or individuals to enter into a cooperative agreement to develop and field test a 36-hour curriculum to train a multi-disciplinary staff in state correctional agencies and prison systems. The time of the cooperative agreement is for a twelve month period. Two training pilots at sites selected by NIC will be completed no later than September 30, 2010, with a final curriculum delivered to NIC no later than December 30, 2010.

The training curriculum will focus on the concept of agency management and operations as a systemic and collaborative effort of all stakeholders in the system. It will include updated and contemporary elements essential for managing an agency and institution to achieve its statutory mandates and mission in an increasingly challenging and budget lean environment. It will include modules on organizational change and building a culture for collaboration. The ultimate goal of the curriculum will be to provide management teams with the tools to manage their operations and demonstrate efficient, effective, safe and secure practices for staff, inmates and the general public.

DATES: Applications must be received by 2 p.m. EDT on Monday, November 30, 2009.

ADDRESSES: Mailed applications must be sent to: Director, National Institute of Corrections, 320 First Street, NW., Room 5007, Washington, DC 20534. Applicants are encouraged to use Federal Express, UPS, or similar service to ensure delivery by the due date.

Hand delivered applications should be brought to 500 First Street, NW., Washington, DC 20534. At the front desk, dial 7-3106, extension 0 for pickup.

Faxed applications will not be accepted. Electronic applications can be submitted via www.grants.gov.

FOR FURTHER INFORMATION CONTACT: A copy of this announcement can be downloaded from the NIC Web page at www.nicic.gov.

All technical or programmatic questions concerning this announcement should be directed to Michael Dooley, Correctional Program Specialist, Prisons Division, National Institute of Corrections, at mdooley@bop.gov.

SUPPLEMENTARY INFORMATION: Overview: The overall goal of the initiative is to design, develop, field test and revise, as needed, a training curriculum that will provide a multi-disciplinary staff in state correctional agencies and prison systems the competencies, skills and tools to leverage the performance of their operations and demonstrate efficient, effective, safe and secure practices for staff, inmates and the general public.

Background: Managing prisons in today's climate presents correctional administrators and prison officials' particular challenges. First, and likely at the forefront, is the problem of shrinking state revenues forcing drastic cuts in funding. The impact has been far reaching, from delaying expansions needed to accommodate a growing population, closing units or even whole facilities to stretching staffing ratios compromising security and safety (2007/2008 NIC Needs Assessment). Many agencies are under mounting pressure to release large volumes of prisoners across communities within their jurisdictions.

Second, the population demographic has become increasingly complex. A growing women offender population presents unique gender challenges for prison management who continue to operate with a bias toward the male offender. A growing number of offenders diagnosed with mental illness, sentenced and placed in prison present very difficult and unique challenges to both custody and case management staff. These offenders present a serious management, safety and budget problem for correctional administrators.

Another demographic that has already begun to pose problems, especially in terms of cost, is the “aging” population resulting from the past three decades of “tough on crime” legislation. This population and its impact will continue to intensify over the next two decades. Other issues facing prison administrators are: Coping with the changing generational workforce with different values and perspectives, some of which are not conducive to effective and efficient management; the age old cultural dissonance between custody and treatment staff compounded by expanding roles and expectations of each; and an increased demand for accountability and to open a typically closed system to both the media and the public.

The list of issues for agency and prison management goes on. The overarching need for agencies facing increasingly complex systems and unique challenges is to adopt performance-based behaviors, processes and standards, and deploy practices and strategies that embrace the multiple disciplines of stakeholders and functions that make up an agency and prison operation.

Another NIC related project currently underway, “Identifying Characteristics of High Performing Correctional Organizations (HCPO),” will inform and serve as a foundational element for curriculum work done under this project. The HCPO project is focused on developing a methodology to design a model and assessment tool to identify and bridge gaps between current performance and optimal performance in terms of efficiency, effectiveness and accountability in correctional organizations. For more information on this project, please visit the HCPO Blog at http://NICIC.gov/HPCO.

Purpose/Outcomes: The overarching purpose of this initiative is to promote and help correctional agencies develop the organizational competence to implement systematic, seamless and “high performing” practices resulting in increased accountability for enhanced public safety and fiscal responsibility. The following intended outcomes for this project are: Agency operational practices will improve next to performance standards identified by system stakeholders with an action learning plan strategy; Agency/institutional and cultural barriers will be reduced/eliminated as evidenced by an increase in collaborative behaviors and collective performance among stakeholders; Safety and security in an agency/institution will increase; Agencies/institutions will adopt key elements and standards of a learning and performance-based culture.

Scope of Work: Under this cooperative agreement, the single goal is the development, testing, and revision of a curriculum to train a multi-disciplinary staff in State correctional agencies and prison systems.

A description of the products and deliverables for the project include a training curriculum titled: A “Systems Approach” for Workforce Performance. The Curriculum package will contain: (1) An instructor/facilitator's guide with associated tools, materials and resources; (2) A participant resource guide to be used in conjunction with all training activities; (3) Instructional aides and materials including presentation slide shows, charts, handouts, case studies, assessments, etc. to support instruction and facilitation.

Training Program Description: The training program has been announced in NIC's Service Plan—“Technical Assistance, Information, and Training for Adult Corrections”, for delivery during FY 2010. A description follows, or may be downloaded online at http://nicic.gov/Library/023761, refer to page 52.

This 36-hour “agency exclusive” strategy development program will focus on the concept of agency management and operations as a systemic and collaborative effort of all stakeholders in addressing policies, procedures, and practices in their correctional system. It will include updated and contemporary elements essential for managing an agency in an increasingly challenging and budget-conscious environment. It will reveal and promote evidence-based practice that results in both short-term offender management and long-term public safety. The program includes modules on organizational change and building an environment of collaboration. The objective is to provide management teams with the tools and techniques necessary for coordinating their operations and to demonstrate a systemic approach in developing, maintaining, and evaluating those services and operations for efficiency and effectiveness.

The program can accommodate up to 30 participants identified by the host agency. The agency should be able to provide onsite meeting space for both the main sessions and breakout sessions. NIC will provide the facilitators and materials.

The targeted audience for the training is agency executive staff, including the director, deputy/assistant directors, regional directors and program administrators, wardens/superintendents, and designated program and security managers from a selected correctional agency who are responsible for agency-wide operations and programs.

Training Program Goals: The following are the intended outcomes for participants completing the training program: Adopt and implement organizational and individual “performance-based” behaviors, strategies and techniques; Adopt and implement an established set of performance standards and benchmarks supported by organizational literature and research, and identified by relevant NIC workgroups on agency performance; Identify system performance barriers and gaps, and implement, evaluate and revise strategies to close these gaps; Assess agency/institutional cultural characteristics and implement strategies to leverage healthy cultural behaviors, limit/reduce unhealthy cultural barriers, and increase collaborative behaviors and the collective performance among agency/institutional stakeholders; Develop and implement strategies to promote an integrated, systems approach to the operations and practices in an agency/institution leading to substantially improved operational efficiencies and practices; Assess and evaluate organizational behavior and practices that embrace “organizational learning” and implement strategies to enhance or adopt the key elements and standards of a learning and performance-based culture.

Requirements: The recipient of this cooperative agreement award must, at a minimum, do the following within the scope of this project: Consult with the Correctional Program Specialist (CPS) assigned to manage the cooperative agreement to ensure understanding of, and agreement on, the scope of work to be performed; Submit a detailed work plan with time lines and milestones for accomplishing project activities to CPS for approval prior to any work being performed under this agreement; Designate a point of contact, which would serve as the conduit of information and work experience between the CPS and the award recipient; Conduct a comprehensive needs assessment and literature review to support the basis of the curriculum; Review relevant NIC curriculum and/or documents in the development of the curriculum; Consult with the CPS on both proposed content and training strategies. (The NIC/CPS will have final approval of both); Conduct a field test of the curriculum. This will consist of two pilot trainings to be done at two agencies selected by NIC. (Note: all participant associated costs will be the responsibility of the agency receiving the training. It is expected that the recipient of the cooperative agreement award will budget for the cost of training staff); Consult with the CPS concerning trainers for program delivery with NIC having final approval of training program faculty; Consult with the CPS on evaluation methodology; and provide evaluation data with recommendations for revisions to the curriculum.

Curriculum Specifications: The curriculum must be designed and developed adhering to the following standards and specifications: The curriculum and training design is consistent with and embraces the Instructional Theory into Practice (ITIP) model. A reference to this model can be found at the following link on the NIC Web site http://nicic.gov/Library/010714; Written products are developed to support the training; The curriculum facilitation guide is written using a standard curriculum document format to include at a minimum: Module/Sections and Titles, Performance Objectives/Expectations, Learning Activities Guide, Practice/Application, Evaluation Method and Resources needed to conduct training activities; References are cited that support curriculum content and concepts; Copyright permissions are secured for the use of copyright protected publications and materials with a minimum usage of three years; All documents must be delivered electronically in both MS Word 2003 or higher and Adobe PDF; A “camera print ready” hard copy must also be submitted; NIC will have final approval of the format, look and organization of the curriculum documents.

Required Expertise: The successful applicant will possess knowledge, skills and experience in the following areas: Knowledge of organizational development, systems theory, organizational behavior, team development, organizational change, and the ability to demonstrate the application of the learning concepts in a correctional agency/prison system; Knowledge and experience with correctional agency/prison system operations and cultural dynamics; Knowledge, skills and experience in curriculum development based on adult learning theory and the Instructional Theory into Practice (ITIP) format; Knowledge and expertise in a variety of instructional delivery strategies to include, but not be limited to, instructor-led e-learning including asynchronous computer/Web-based, instructor-led synchronous Web-based, social learning networks, Web 2.0 applications, etc.; Skilled in designing training curriculum linked to training objectives; Knowledge of training evaluation methods; and Effective written and oral communication skills.

Application Requirements: Applications should be concisely written, typed double spaced and reference the “NIC Funding Opportunity Number” and Title provided in this announcement. The application package must include: OMB Standard Form 424, Application for Federal Assistance; a cover letter that identifies the audit agency responsible for the applicant's financial accounts as well as the audit period of fiscal year that the applicant operates under (e.g., July 1 through June 30), an outline of projected costs, and the following forms: OMB Standard Form 424A, Budget Information—Non Construction Programs, OMB Standard Form 424B, Assurances—Non Construction Programs (available at www.grants.gov), and DOJ/NIC Certification Regarding Lobbying; Debarment, Suspension and Other Responsibility Matters; and Drug-Free Workplace Requirements (available at http://www.nicic.gov/Downloads/PDF/certif-frm.pdf.)

Applications may be submitted in hard copy, or electronically via www.grants.gov. If submitted in hard copy, there needs to be an original and three copies of the full proposal (program and budget narratives, application forms and assurances). The original should have the applicant's signature in blue ink. The program narrative text must be limited to 15 double spaced pages, exclusive of resumes and summaries of experience. Please do not submit full curriculum vitae.

A web-conference will be conducted for persons with the intent to respond to the solicitation on Tuesday, November 17, 2009 at 12 p.m. EDT. During this conference, NIC project managers will respond to questions regarding the solicitation and expectation of work to be performed. Please notify Michael Dooley electronically at mdooley@bop.gov by 12 p.m. noon EDT on Friday, November 13, 2009, regarding your interest in participating in the conference. You will be provided with the Web link, call-in number and instructions for accessing the session.

Authority: Public law 93-415.

Funds Available: NIC is seeking the applicant's best ideas regarding accomplishment of the scope of work and the related costs for achieving the goals of this solicitation. Funds may only be used for the activities that are linked to the desired outcome of the project.

This project will be a collaborative venture with the NIC Prisons Division.

Eligibility of Applicants: An eligible applicant is any private agency, educational institution, organization, individual or team with expertise in the described areas.

Review Considerations: Applications received under this announcement will be subjected to a 3 to 5 person NIC Peer Review Process.

Note: NIC will NOT award a cooperative agreement to an applicant who does not have a Dun and Bradstreet Database Universal Number (DUNS) and is not registered in the Central Contractor Registry.

A DUNS number can be received at no cost by calling the dedicated toll-free DUNS number request line at 1-800-333-0505 (if you are a sole proprietor, you would dial 1-866-705-5711 and select option 1).

Number of Awards: One.

NIC Funding Opportunity Number: 10P07. This number should appear as a reference line in the cover letter, in box 4a of Standard Form 424, and outside of the envelope in which the application is sent.

Catalog of Federal Domestic Assistance Number: 16.601.

Executive Order 12372: This project is not subject to the provisions of Executive Order 12372.

Morris L. Thigpen,
Director, National Institute of Corrections.

[FR Doc. E9-25960 Filed 10-27-09; 8:45 am]

BILLING CODE 4410-36-P